DEPARTMENT OF COMMERCE

Foreign-Trade Zones Board

[S-217-2020]

Approval of Subzone Expansion; Abbott Laboratories, Itasca, Illinois

On December 8, 2020, the Executive Secretary of the Foreign-Trade Zones (FTZ) Board docketed an application submitted by the Illinois International Port District, grantee of FTZ 22, requesting an expansion of Subzone 22F subject to the existing activation limit of FTZ 22, on behalf of Abbott Laboratories, in Itasca, Illinois.

The application was processed in accordance with the FTZ Act and Regulations, including notice in the Federal Register inviting public comment (85 FR 80770-80771, December 14, 2020). The FTZ staff examiner reviewed the application and determined that it meets the criteria for approval. Pursuant to the authority delegated to the FTZ Board Executive Secretary (15 CFR Sec. 400.36(f)), the application to expand Subzone 22F was approved on February 1, 2021, subject to the FTZ Act and the Board's regulations, including Section 400.13, and further subject to FTZ 22's 2,000-acre activation limit.

Dated: February 1, 2021.
Andrew McGilvray,
Executive Secretary.

[FR Doc. 2021-02514 Filed 2-5-21; 8:45 am]

BILLING CODE 3510-DS-P